DEPARTMENT OF COMMERCE

Foreign-Trade Zones Board

[Docket T-4-2012]

Foreign-Trade Zone 161; Temporary/Interim Manufacturing Authority; Siemens Energy, Inc., (Wind Turbine Nacelles and Hubs); Notice of Approval

On April 2, 2012, the Executive Secretary of the Foreign-Trade Zones (FTZ) Board filed an application submitted by the Board of County Commissioners of Sedgwick County, grantee of FTZ 161, requesting temporary/interim manufacturing (T/IM) authority, on behalf of Siemens Energy, Inc., to manufacture wind turbine nacelles and hubs under FTZ procedures within FTZ 161—Sites 3 and 4, in Hutchinson, Kansas.

The application was processed in accordance with T/IM procedures, as authorized by FTZ Board Orders 1347 (69 FR 52857, 8/30/04) and 1480 (71 FR 55422, 9/22/06), including notice in the Federal Register inviting public comment (77 FR 20782, 4/6/2012). The FTZ staff examiner reviewed the application and determined that it meets the criteria for approval under T/IM procedures. Pursuant to the authority delegated to the FTZ Board Executive Secretary in the above-referenced Board Orders, the application is approved, effective this date, until June 7, 2014, subject to the FTZ Act and the Board's regulations, including Section 400.13.

Dated: June 7, 2012.
Elizabeth Whiteman,
Acting Executive Secretary.

[FR Doc. 2012-14275 Filed 6-11-12; 8:45 am]

BILLING CODE P